DEPARTMENT OF LABOR

Employment and Training Administration

[TA-W-83,244; TA-W-83,244A]

Inalfa Roof Systems Grand Blanc, A Subsidiary of Inalfa Roof Systems, Inc., Including On-Site Leased Workers From Aerotek and Sentech Holly, Michigan; Inalfa Roof Systems—Silverbell A Subsidiary of Inalfa Roof Systems, Inc., Including On-Site Leased Workers From Aerotek and Adecco Lake Orion, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on December 12, 2013, applicable to workers of Inalfa Roof Systems Grand Blanc, a subsidiary of Inalfa Roof Systems, Inc., including on-site leased workers from Aerotek and Sentech, Holly, Michigan. The Department's Notice of Determination was published in the Federal Register on January 10, 2014 (79 FR 1893).

In response to a petition (TA-W-85,336) filed by the state workforce office on behalf of workers at Inalfa Roof Systems—Silverbell, a subsidiary of Inalfa Roof System, Inc., Lake Orion, Michigan, the Department reviewed the certification for workers of the subject firm. The firm is engaged in production of sunroofs and glass roof modules. The worker group includes on-site leased workers from Aerotek and Adecco.

The investigation confirmed that worker separations at the Lake Orion, Michigan facility are attributable to the shift in production by Inalafa Roof Systems from Holly, Michigan to a foreign country.

The amended notice applicable to TA-W-83,199 is hereby issued as follows:

“All workers Inalfa Roof Systems Grand Blanc, a subsidiary of Inalfa Roof Systems, Inc., including on-site leased workers from Aerotek and Senetech, Holly, Michigan (TA-W-83,244) and Inalfa Roof Systems—Silverbell, a subsidiary of Inalfa Roof System, Inc., including on-site leased workers from Aerotek and Adecco, Lake Orion, Michigan (TA-W-83,244A), who became totally or partially separated from employment on or after November 25, 2012 through December 12, 2015, and all workers in the group threatened with total or partial separation from employment on the date of certification through two years from the date of certification, are eligible to apply for adjustment assistance under Chapter 2 of Title II of the Trade Act of 1974, as amended.”

Signed in Washington, DC this 14th day of August, 2014.
Michael W. Jaffe,
Certifying Officer, Office of Trade Adjustment Assistance.

[FR Doc. 2014-21625 Filed 9-10-14; 8:45 am]

BILLING CODE 4510-FN-P